ENVIRONMENTAL PROTECTION AGENCY

[ER-FRL-6641-4]

Environmental Impact Statements; Notice of Availability

Responsible Agency: Office of Federal Activities, General Information (202) 202-564-7167 or http://www.epa.gov/compliance/nepa/.

Weekly receipt of Environmental Impact Statements Filed June 16, 2003 Through June 20, 2003 Pursuant to 40 CFR 1506.9.:

EIS No. 030285, Draft EIS, BLM, OR, Travis Tyrrell Seed Orchard Integrated Pest Management (IPM) Program, Implementation, Eugene District, Lorne, Lane County, OR, Comment Period Ends: August 25, 2003, Contact: Glenn Miller (541) 683-6445.

EIS No. 030286, Draft EIS, BLM, OR, Provolt Seed Orchard Integrated Pest Management (IPM) Program, Implementation, Grants Pass, Medford District, Jackson and Josephine Counties, OR and Charles A. Sprague Seed Orchard Integrated Pest Management (IPM) Program, Implementation, Merlin, Medford District, Josephine County, OR, Comment Period Ends: August 25, 2003, Contact: Harvey Koester (541) 618-2401.

EIS No. 030287, Draft EIS, BLM, OR, Walter H. Horning Seed Orchard Integrated Pest Management (IPM) Program, Implementation, Colton, Salem District, Clackamas County, OR, Comment Period Ends: August 25, 2003, Contact: Greg Tylor (503) 630-8406.

EIS No. 030288, Draft EIS, NPS, TX, Big Bend National Park General Management Plan, Implementation, Brewster County, TX, Comment Period Ends: August 25, 2003, Contact: John King (915) 477-1101.

EIS No. 030289, Final Supplement, COE, TX, OK, Red River Chloride Control Project, Authorization to Reduce the National Occurring Levels of Chloride in the Wichita River Only Portion, North, Middle and South Forks, Wichita River and Red River, Implementation, Tulsa District, Wichita County, TX, Wait Period Ends: July 28, 2003, Contact: David L. Combs (918) 669-7660. This document is available on the Internet at: http://www.swt.usace.army.mil/LIBRARY/library.CFM.

EIS No. 030290, Draft EIS, FRC, NY, St. Lawrence-FDR Hydroelectric Project, Application for New License (Relicense), (FERC No. 200-036), Located on the St. Lawrence River, Messina, NY, Comment Period Ends: August 11, 2003, Contact: Ed Lee (202) 502-6082. This document is available on the Internet at: (http://www.ferc.gov)

EIS No. 030291, Draft EIS, USN, CA, Military Family Housing (MFH) in the San Diego Region, Construction of a 1,600 MFH Units, Three MFH Sites are located in the Marine Corps Air Station (MCAS), Miramar in the City of San Diego, San Diego County, CA, Comment Period Ends: August 11, 2003, Contact: Sheila Donovan (619) 532-2518.

EIS No. 030292, Final EIS, USN, CA, Naval Station Treasure Island Disposal and Reuse Property, Implementation, Local Redevelopment Authority (LRA), City of San Francisco, San Francisco County, CA, Wait Period Ends: July 28, 2003, Contact: Timarie Seneca (619) 532-0955.

EIS No. 030293, Final EIS, TVA, TN, Rarity Pointe Commercial Recreation and Residential Development on Tellico Reservoir Project, Request for TVA's Land and Approval of Water Use Facilities, Tellico Reservoir, Loudon County, TN, Wait Period Ends: July 28, 2003, Contact: Richard L. Toennisson (865) 632-8517. This document is available on the Internet at: http://www.tva.gov/environment/reports/index.htm.

EIS No. 030294, Draft EIS, COE, NJ, Union Beach Community Project, To Provide Hurricane and Storm Damage Reduction to Residential, Commercial and Recreational Resources, Located along the Raritan Bay and Sandy Hook Bay Shoreline, Monmouth County, NJ, Comment Period Ends: August 11, 2003, Contact: Mark H. Burlas (212) 264-4663.

Amended Notices

EIS No. 030263, Draft Supplement, AFS, CA, NV, Sierra Nevada Forest Plan Amendment, New Information on a Range of Alternatives for Amending Land and Resources Management Plans, Modoc, Lasser, Plumas, Tahoe, Eldorado, Stanislaus, Sequoia, Sierra, Inyo and Humboldt-Toiyabe National Forests, and the Lake Tahoe Basin Management Unit, Several Counties, CA and NV, Comment Period Ends: September 12, 2003, Contact: Kathleen Morse (707) 562-8822. Revision of FR Notice Published on 6/13/2003: Correction to Contact Telephone Number.

Dated: June 24, 2003.
Joseph C. Montgomery,
Director, NEPA Compliance Division, Office of Federal Activities.

[FR Doc. 03-16334 Filed 6-26-03; 8:45 am]

BILLING CODE 6560-50-P